DEPARTMENT OF COMMERCE

International Trade Administration

[A-570-960]

Certain Standard Steel Fasteners From the People's Republic of China: Amendment to Initiation of Antidumping Duty Investigation

DATES: Effective Date: November 5, 2009.

SUMMARY: The Department of Commerce (“Department”) is currently conducting an antidumping duty investigation of certain standard steel fasteners from the People's Republic of China (“PRC”). The period of investigation (“POI”) is January 1, 2009, through June 30, 2009. We are limiting the number of quantity and value questionnaires that will be sent directly to exporters and extending the deadline for parties to submit a response to the quantity and value questionnaire.

FOR FURTHER INFORMATION CONTACT: Susan Pulongbarit or Jerry Huang, AD/CVD Operations Office 9, (202) 482-4031 or (202) 482-4047, respectively; Import Administration, International Trade Administration, U.S. Department of Commerce, 14th Street and Constitution Avenue, NW., Washington, DC 20230.

Background: On October 22, 2009, the Department of Commerce (“the Department”) published a notice of initiation of antidumping duty investigations of certain standard steel fasteners (“fasteners”) from the PRC and Taiwan. See Certain Standard Steel Fasteners From the People's Republic of China and Taiwan: Initiation of Antidumping Duty Investigations, 74 FR 54537 (October 22, 2009) (“Initiation”).

SUPPLEMENTARY INFORMATION: In the Initiation, the Department stated that it intended to release quantity and value questionnaires to those PRC companies identified in the petitions by Nucor Fastener (“Petitioner”). See Petitions for the Imposition of Antidumping and Countervailing Duties: Certain Standard Steel Fasteners from the People's Republic of China and Taiwan, dated September 23, 2009, at Exhibit I-4 (“Petition”) and Letter from Wiley Rein to the Secretary of Commerce Regarding Certain Standard Steel Fasteners from the People's Republic of China, dated October 14, 2009, at Attachment.

Given that Petitioner identified more than 400 producers and exporters of fasteners from the PRC, the Department has determined to limit the number of quantity and value questionnaires it will send out to exporters based on U.S. Customs and Border Protection (“CBP”) data for U.S. imports under the Harmonized Tariff Schedule of the United States (“HTSUS”) numbers 7318.15.2030, 7318.15.2055, 7318.15.2065, 7318.15.8065, 7318.15.8085, and 7318.16.0085. These are the same HTSUS numbers used by Petitioner to demonstrate that dumping occurred during the POI. See Petition at Exhibit I-6.

Moreover, although the Department is limiting the number of quantity and value questionnaires it will send out, exporters of fasteners that do not receive quantity and value questionnaires that intend to submit a response can obtain a copy from the Import Administration Web site at http://ia.ita.doc.gov/ia-highlights-and-news.html. Accordingly, the Department is extending the deadline to submit responses to the quantity and value questionnaires from November 3, 2009, to November 19, 2009.

This notice is issued and published in accordance with section 777(i) of the Tariff Act of 1930, as amended.

Dated: October 29, 2009.
John M. Andersen,
Deputy Assistant Secretary for Antidumping and Countervailing Duty Operations.

[FR Doc. E9-26577 Filed 11-4-09; 8:45 am]

BILLING CODE 3510-DS-P